DEPARTMENT OF STATE

[Public Notice: 9794]

U.S. Advisory Commission on Public Diplomacy; Notice of Meeting

The U.S. Advisory Commission on Public Diplomacy will hold a public meeting from 10:00a.m. until 11:30a.m., Thursday, December 8, 2016 in the Russell Senate Office Building, Room 385 in Washington, DC 20515.

The meeting will be a discussion on the use of public diplomacy tools to combat violent extremism and will feature a panel of experts.

This meeting is open to the public, Members and staff of Congress, the State Department, Defense Department, the media, and other governmental and non-governmental organizations. To attend and make any requests for reasonable accommodation, email pdcommission@state.gov by 5pm on Tuesday, December 6, 2016. Please arrive for the meeting by 9:45am to allow for a prompt meeting start.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. Sim Farar of California, Chairman; Mr. William Hybl of Colorado, Vice Chairman; Ambassador Lyndon Olson of Texas, Vice Chairman; Ambassador Penne Korth-Peacock of Texas; Anne Terman Wedner of Illinois; and Ms. Georgette Mosbacher of New York. One seat on the Commission is currently vacant.

The following individuals have been nominated to the Commission but await Senate confirmation as of this writing: Douglas Wilson of Delaware and Markos Kounalakis of California.

To request further information about the meeting or the U.S. Advisory Commission on Public Diplomacy, you may contact its Senior Advisor, Chris Hensman, at HensmanCD@state.gov.

Dated: November 1, 2016.
Martha Estell,
Senior Advisor, Department of State.

[FR Doc. 2016-27664 Filed 11-16-16; 8:45 am]

BILLING CODE 4710-05-P